NUCLEAR REGULATORY COMMISSION

Draft Regulatory Guides; Issuance, Availability

The Nuclear Regulatory Commission has issued for public comment drafts of two new guides in its Regulatory Guide Series. This series has been developed to describe and make available to the public such information as methods acceptable to the NRC staff for implementing specific parts of the NRC's regulations, techniques used by the staff in evaluating specific problems or postulated accidents, and data needed by the staff in its review of applications for permits and licenses.

Draft Regulatory Guide DG-1102, “Design, Inspection, and Testing Criteria for Air Filtration and Adsorption Units of Post-Accident Engineered-Safety-Feature Atmosphere Cleanup Systems in Light-Water-Cooled Nuclear Power Plants,” as a proposed Revision 3 to Regulatory Guide 1.52, is being developed to describe methods acceptable to the NRC staff for complying with the NRC's regulations with regard to the design, inspection, and testing criteria for air filtration and iodine adsorption units of engineered-safety-feature atmosphere cleanup systems in light-water-cooled nuclear power plants. This guide applies only to post-accident atmosphere cleanup systems that are designed to mitigate the consequences of postulated accidents.

Draft Regulatory Guide DG-1103, “Design, Inspection, and Testing Criteria for Air Filtration and Adsorption Units of Normal Ventilation Exhaust Systems in Light-Water-Cooled Nuclear Power Plants,” as a proposed Revision 2 to Regulatory Guide 1.140, is being developed to present methods acceptable to the NRC staff for meeting the NRC's regulations with regard to the criteria for air filtration and adsorption units installed in the normal ventilation exhaust systems of light-water-cooled nuclear power plants.

These draft guides have not received complete staff approval and do not represent an official NRC staff position.

Comments may be accompanied by relevant information or supporting data. Written comments may be submitted to the Rules and Directives Branch, Office of Administration, U.S. Nuclear Regulatory Commission, Washington, DC 20555. Copies of comments received may be examined at the NRC Public Document Room, 11555 Rockville Pike, Rockville, MD. Comments will be most helpful if received by December 29, 2000.

You may also provide comments via the NRC's interactive rulemaking website through the NRC home page (http://www.nrc.gov). This site provides the availability to upload comments as files (any format), if your web browser supports that function. For information about the interactive rulemaking website, contact Ms. Carol Gallagher, (301) 415-5905; e-mail CAG@NRC.GOV. Electronic copies of these draft guides, under Accession Numbers ML003714744 for DG-8026 and ML003714764 for DG-8027, are available in NRC's Public Electronic Reading Room, which can also be accessed through NRC's web site, <WWW.NRC.GOV>. For information about the draft guides, contact Mr. J. Segala at (301) 415-1858; e-mail JPS1@NRC.GOV.

Although a time limit is given for comments on these draft guides, comments and suggestions in connection with items for inclusion in guides currently being developed or improvements in all published guides are encouraged at any time.

Regulatory guides are available for inspection at the Commission's Public Document Room, 11555 Rockville Pike, Rockville, MD. Requests for single copies of draft or final guides (which may be reproduced) or for placement on an automatic distribution list for single copies of future draft guides in specific divisions should be made in writing to the U.S. Nuclear Regulatory Commission, Washington, DC 20555, Attention: Reproduction and Distribution Services Section; or by fax to (301) 415-2289, or by email to <DISTRIBUTION@NRC.GOV>. Telephone requests cannot be accommodated. Regulatory guides are not copyrighted, and Commission approval is not required to reproduce them.

(5 U.S.C. 552(a)).

Dated at Rockville, Maryland, this 19th day of October 2000.
For the Nuclear Regulatory Commission.
Clare V. Kasputys,
Deputy Director, Program Management, Policy Development & Analysis Staff, Office of Nuclear Regulatory Research.

[FR Doc. 00-27939 Filed 10-30-00; 8:45 am]

BILLING CODE 7590-01-P